DEPARTMENT OF COMMERCE

National Oceanic and Atmospheric Administration

[I.D. 051502A]

Endangered Species; Permit No. 1299

AGENCY: National Marine Fisheries Service (NMFS), National Oceanic and Atmospheric Administration (NOAA), Commerce.

ACTION: Issuance of permit amendment.

SUMMARY: Notice is hereby given that Raymond R. Carthy, Ph.D., Florida Cooperative Fish and Wildlife Research Unit, P.O. Box 110450, University of Florida, Gainesville, Florida 32611, has been issued an amendment to scientific research Permit No. 1299.

ADDRESSES: The amendment and related documents are available for review upon written request or by appointment in the following office(s):

Permits, Conservation and Education Division, Office of Protected Resources, NMFS, 1315 East-West Highway, Room 13705, Silver Spring, MD 20910; phone (301)713-2289; fax (301)713-0376.

FOR FURTHER INFORMATION CONTACT: Lillian Becker or Ruth Johnson, (301)713-2289.

SUPPLEMENTARY INFORMATION: The requested modification has been granted under the authority of the Endangered Species Act of 1973, as amended (ESA; 16 U.S.C. 1531 et seq.), the provisions of § 222.306 of the regulations governing the taking, importing, and exporting of endangered and threatened fish and wildlife (50 CFR 222-226).

The Permit authorizes the Holder to a attach five (5) radio/sonic transmitters and to five (5) radio transmitters to loggerhead, green or Kemp’s ridley turtles already authorized to be taken. No additional animals were authorized to be taken. This activity will occur in 2002 and 2003.

Issuance of this amendment, as required by the ESA was based on a finding that such permit (1) was applied for in good faith, (2) will not operate to the disadvantage of the endangered species which is the subject of this permit, and (3) is consistent with the purposes and policies set forth in section 2 of the ESA.

Dated: June 3, 2002.
Eugene Nitta,
Acting Chief, Permits, Conservation and Education Division, Office of Protected Resources, National Marine Fisheries Service.

[FR Doc. 02-14361 Filed 6-6-02; 8:45 am]

BILLING CODE 3510-22-S